DEPARTMENT OF HEALTH AND HUMAN SERVICES

Centers for Disease Control and Prevention

[Program Announcement 02022]

CDC Support to Expand HIV/AIDS/STD Surveillance, Care and Prevention in Uganda; Notice of Award of Equipment Grant

A. Purpose

The Centers for Disease Control and Prevention (CDC) announces the award of fiscal year (FY) 2002 funds for an equipment grant program for the AIDS Control Programme (ACP) and Nakasero Blood Bank, Ministry of Health of the Republic of Uganda.

This equipment grant supports an earlier Cooperative Agreement (01140) with the Uganda Ministry of Health, AIDS Control Programme, to improve and expand HIV/AIDS/STD surveillance, care and prevention capacity activities in Uganda.

B. Where To Obtain Additional Information

To obtain business management technical assistance, contact: Dorimar Rosado, Lead Grants Management Specialist, International Grants and Contracts Branch, Procurement and Grants Office, Centers for Disease Control and Prevention, 2920 Brandywine Road, Room 3000, Atlanta, GA 30341-4146, Telephone number: (770) 488-2782, FAX: (770) 488-2847, Email address: dpr7@cdc.gov.

For program technical assistance, contact: Bruce Ross, c/o/ U.S. Embassy Kampala, PO Box 7070, Kampala, Uganda, or by mail: 2190 Kampala Pl, Washington, DC 20521-2190, Telephone number: 256 41 320 776, FAX: 256 41 321 457, Email address: bxr2@cdc.gov.

Dated: February 8, 2002.
Rebecca B. O'Kelley,
Chief, International Grants and Contracts Branch, Centers for Disease Control and Prevention (CDC).

[FR Doc. 02-3606 Filed 2-13-02; 8:45 am]

BILLING CODE 4163-18-P